DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of 28 newly-designated individuals and entities whose property and interests in property are blocked pursuant to Executive Order 12978 of October 21, 1995, “Blocking Assets and Prohibiting Transactions with Significant Narcotics Traffickers.”

DATES: The designation by the Acting Director of OFAC of the 28 individuals and entities identified in this notice pursuant to Executive Order 12978 is effective on May 27, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: (202) 622-0077.

Background

On October 21, 1995, the President, invoking the authority, inter alia, of the International Emergency Economic Powers Act (50 U.S.C. 1701-1706), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On May 27, 2009, the Acting Director of OFAC, in consultation with the Attorney General and Secretary of State, as well as the Secretary of Homeland Security, designated 28 individuals and entities whose property and interests in property are blocked pursuant to the Order.

The list of additional designees is as follows:

1. AERONAUTICA CONDOR DE PANAMA, S.A., Panama; RUC # 581123-1-448204-93 (Panama) [SDNT]

2. AERONAUTICA CONDOR S.A. DE C.V. (a.k.a. AEROCONDOR S.A. DE C.V.), Hangar D-2 y D-3, Puerta 2, Aviacion General, Aeropuerto Internacional de Toluca, Toluca, Estado de Mexico, Mexico; Calle 3 Hangar 22 al 29, Aeropuerto Internacional Toluca, Toluca, Estado de Mexico C.P. 50500, Mexico; R.F.C. ACO-031113-MB8 (Mexico) [SDNT]

3. AGROESPINAL S.A., Calle 16 No. 41-210 of. 801, Medellin, Colombia; NIT # 800256233-0 (Colombia) [SDNT]

4. AGROGANADERA LOS SANTOS S.A., Calle 16 No. 41-210 of. 801, Medellin, Colombia; NIT # 800215934-1 (Colombia) [SDNT]

5. ASES DE COMPETENCIA Y CIA. S.A., Carrera 30 No. 74-45, Bogota, Colombia; Carrera 6A No. 22-46 Int. 110, Medellin, Colombia; Carrera 66A No. 3-50 Int. 69, Medellin, Colombia; NIT # 800213156-7 (Colombia) [SDNT]

6. BERMUDEZ DURAN, Felipe, Camino a San Mateo 41 Edif. Mackenzie—1003, Lomas Verdes, Naucalpan, Estado de Mexico C.P. 53020, Mexico; Puerto de Palo No. 128, Col. Residencial Colon, Toluca, Estado de Mexico C.P. 50120, Mexico; DOB 03 Jul 1988; C.U.R.P. BEDF880703HDFRRL09 (Mexico); R.F.C. BEDF880703 (Mexico) (individual) [SDNT]

7. BERMUDEZ LUQUE, Santiago, c/o AERONAUTICA CONDOR DE PANAMA, S.A., Panama; c/o ASES DE COMPETENCIA Y CIA. S.A., Medellin, Colombia; Camino al Olivo 114, Vista Hermosa, Mexico City, Distrito Federal, Mexico; DOB 22 Aug 1987; POB Medellin, Colombia; C.U.R.P. BELS870822HNERQN14 (Mexico); Cedula No. 1126644222 (Colombia); Identification Number 87082253007 (Colombia) (individual) [SDNT]

8. BERMUDEZ SUAZA, Pedro Antonio (a.k.a. AGUILAR DEL BOSQUE, Mauricio; a.k.a. AGUILAR VELEZ, Luis Antonio; a.k.a. VEGA LUJAN, Diego Rodrigo; a.k.a. “EL ARQUITECTO”), c/o ASES DE COMPETENCIA Y CIA. S.A., Medellin, Colombia; c/o CONSTRUCTORA GUADALEST S.A., Medellin, Colombia; c/o FRANZUL S.A., Medellin, Colombia; c/o GRUPO GUADALEST S.A. DE C.V., Mexico City, Distrito Federal, Mexico; c/o HIERROS DE JERUSALEM S.A., Medellin, Colombia; Av. Hipolito Taine 253 2, Col. Chapultepec Morales, Miguel Hidalgo, Mexico City, Distrito Federal 11560, Mexico; Camino a San Mateo 41, edificio Mackenzie, la Cuspide departamento 1003, Colonia Lomas Verdes, Naucalpan de Juarez, Estado de Mexico, Mexico; DOB 30 Mar 1957; alt. DOB 10 Mar 1958; alt. DOB 30 Mar 1959; alt. DOB 22 Aug 1959; POB Medellin, Colombia; alt. POB Huamantla, Tlaxcala, Mexico; Cedula No. 70123377 (Colombia); Credencial electoral AGBSMR59033015H800 (Mexico); Passport 05400005349 (Mexico); R.F.C. VELD580310 (Mexico) (individual) [SDNT]

9. CONSTRUCTORA GUADALEST S.A., Correg. San Cristobal Vereda El Llano, Medellin, Colombia; NIT # 800147514-8 (Colombia) [SDNT]

10. CONSULTORIA EN CAMBIOS FALCON S.A. DE C.V., Centro Comercial Interlomas Local U-16 P.A., Boulevard Interlomas 5, Colonia La Herradura, Huixquilucan, Estado de Mexico C.P. 52784, Mexico; Paseo de la Herradura No. 5 P.A. Loc. 16, Col. La Herradura, Huixquilucan, Estado de Mexico C.P. 52784, Mexico; R.F.C. CCF-020819-183 (Mexico) [SDNT]

11. DURAN PORRAS, Gloria Amparo, c/o FRANZUL S.A., Medellin, Colombia; c/o HIERROS DE JERUSALEM S.A., Medellin, Colombia; DOB 11 Feb 1968; alt. DOB 02 Nov 1968; Cedula No. 42895110 (Colombia) (individual) [SDNT]

12. FRANZUL S.A., Calle 16 No. 41-210 of. 802, Medellin, Colombia; NIT # 811044587-2 (Colombia) [SDNT]

13. GRUPO FALCON DE PANAMA, S.A., PH Centro Comercial Los Pueblos Albrook, Local 47-D, Panama City, Panama; RUC # 556350-1-444254-07 (Panama) [SDNT]

14. GRUPO FALCON S.A., Calle 16 No. 41-210 of. 801, Medellin, Colombia; NIT # 800214711-1 (Colombia) [SDNT]

15. GRUPO GUADALEST S.A. DE C.V., Calle Enrique Wallon 424 Alts. Hab. 13, Rincon del Bosque y Presidente Mazarik, Colonia Polanco, Mexico City, Distrito Federal 11560, Mexico; Naucalpan de Juarez, Estado de Mexico, Mexico; R.F.C. GGU040603B20 (Mexico) [SDNT]

16. HERNANDEZ MEJIA, Jorge Alberto, c/o FRANZUL S.A., Medellin, Colombia; c/o HIERROS DE JERUSALEM S.A., Medellin, Colombia; c/o TAXI AEREO ANTIOQUENO S.A., Medellin, Colombia; c/o ASES DE COMPETENCIA Y CIA. S.A., Medellin, Colombia; DOB 15 Jun 1962; Cedula No. 71530775 (Colombia) (individual) [SDNT]

17. HIERROS DE JERUSALEM S.A., Calle 16 No. 41-210 of. 801, Medellin, Colombia; NIT # 830513468-6 (Colombia) [SDNT]

18. JACOME DEL VALLE, Omar Alfredo (a.k.a. “EL PIOLO”), c/o CONSULTORIA EN CAMBIOS FALCON S.A. DE C.V., Huixquilucan, Estado de Mexico, Mexico; DOB 24 Oct 1958; POB Mexico; C.U.R.P. JAVO581024HDFCLM02 (Mexico) (individual) [SDNT]

19. LLANOTOUR LTDA (a.k.a. HOSTERIA LLANOGRANDE), Carretera Las Palmas cruce Aeropuerto Km. 3, Rionegro, Antioquia, Colombia; NIT # 890941440-4 (Colombia) [SDNT]

20. LOPEZ OSPINA, Carlos Antonio, c/o AGROESPINAL S.A., Medellin, Colombia; c/o ASES DE COMPETENCIA Y CIA S.A., Medellin, Colombia; c/o GRUPO FALCON S.A., Medellin, Colombia; Calle 50 No. 65-42 of. 205, Medellin, Colombia; DOB 06 Mar 1926; alt. DOB 03 Jun 1926; Cedula No. 3311296 (Colombia) (individual) [SDNT]

21. MEJIA ARTEAGA, Nora, c/o AGROESPINAL S.A., Medellin, Colombia; c/o AGROGANADERA LOS SANTOS S.A., Medellin, Colombia; c/o ASES DE COMPETENCIA Y CIA. S.A., Medellin, Colombia; c/o FRANZUL S.A., Medellin, Colombia; c/o GRUPO FALCON S.A., Medellin, Colombia; c/o HIERROS DE JERUSALEM S.A., Medellin, Colombia; c/o LLANOTOUR LTDA, Rionegro, Antioquia, Colombia; DOB 08 Mar 1946; POB Medellin, Colombia; Cedula No. 32488894 (Colombia) (individual) [SDNT]

22. MUNERA VELASQUEZ, Martha Marina, c/o GRUPO FALCON S.A., Medellin, Colombia; c/o LLANOTOUR LTDA., Rionegro, Antioquia, Colombia; DOB 09 Jun 1952; Cedula No. 32480630 (Colombia) (individual) [SDNT]

23. PEREZ MONTERO, Maria Marcela del Pilar, c/o AERONAUTICA CONDOR DE PANAMA, S.A., Panama; c/o AGROESPINAL S.A., Medellin, Colombia; c/o AGROGANADERA LOS SANTOS S.A., Medellin, Colombia; c/o GRUPO FALCON S.A., Medellin, Colombia; DOB 29 May 1959; POB Bogota, Colombia; Cedula No. 41750752 (Colombia) (individual) [SDNT]

24. SANCHEZ MARTELL, Julio Cesar Jassan Estuardo (a.k.a. SANCHEZ MARTELL, Julio Cesar), c/o AERONAUTICA CONDOR DE PANAMA, S.A., Panama; c/o GRUPO FALCON DE PANAMA, S.A., Panama; c/o GRUPO GUADALEST S.A. DE C.V., Mexico City, Distrito Federal, Mexico; C. Enrique Wallon 424 3, Col. Polanco, Miguel Hidalgo, Mexico City, Distrito Federal 11560, Mexico; C. Las Palmas L H5C D 1102 1000, Cond. Costaventura Y X, Fracc. Playa Diamante, Acapulco, Guerrero, Mexico; DOB 16 Sep 1966; C.U.R.P. SAMJ660916HDFNRL17 (Mexico); Credencial electoral SNMRJL66091609H501 (Mexico); Passport 01370022046 (Mexico); R.F.C. SAMJ660916000 (Mexico) (individual) [SDNT]

25. SANCHEZ RIVERA, Doris Patricia, c/o FRANZUL S.A., Medellin, Colombia; c/o HIERROS DE JERUSALEM S.A., Medellin, Colombia; c/o TAXI AEREO ANTIOQUENO S.A., Medellin, Colombia; DOB 27 Oct 1966; Cedula No. 43681039 (Colombia) (individual) [SDNT]

26. SUAZA BARCO, Maria del Carmen (a.k.a. SUAZA BARCO, Carmen), c/o AGROESPINAL S.A., Medellin, Colombia; c/o AGROGANADERA LOS SANTOS S.A., Medellin, Colombia; c/o ASES DE COMPETENCIA Y CIA. S.A., Medellin, Colombia; c/o CONSTRUCTORA GUADALEST S.A., Medellin, Colombia; c/o FRANZUL S.A., Medellin, Colombia; c/o GRUPO FALCON S.A., Medellin, Colombia; c/o HIERROS DE JERUSALEM S.A., Medellin, Colombia; Calle Hamburgo No. 214 dpto. 22-3, Colonia Juarez, Mexico City, Distrito Federal C.P. 06600, Mexico; DOB 06 May 1921; POB Andes, Antioquia, Colombia; Cedula No. 32446309 (Colombia); Visa Number ID 2024702 (Mexico) (individual) [SDNT]

27. TAXI AEREO ANTIOQUENO S.A. (a.k.a. TAN S.A.), Calle 4 No. 65F-41 Hangar 70A, Medellin, Colombia; NIT # 811041365-0 (Colombia) [SDNT]

28. VASQUEZ VALENCIA, Natalia Andrea, c/o AGROGANADERA LOS SANTOS S.A., Medellin, Colombia; c/o ASES DE COMPETENCIA Y CIA. S.A., Medellin, Colombia; c/o FRANZUL S.A., Medellin, Colombia; c/o HIERROS DE JERUSALEM S.A., Medellin, Colombia; c/o TAXI AEREO ANTIOQUENO S.A., Medellin, Colombia; DOB 01 Oct 1974; POB Medellin, Colombia; Cedula No. 43587931 (Colombia) (individual) [SDNT]

Dated: May 27, 2009.
J. Robert McBrien,
Acting Director, Office of Foreign Assets Control.

[FR Doc. E9-12799 Filed 6-1-09; 8:45 am]

BILLING CODE 4811-45-P